ENVIRONMENTAL PROTECTION AGENCY

[EPA-HQ-OPP-2010-0012; FRL-8817-6]

Notice of Withdrawal of Pesticide Petitions for Residues of Pesticide Chemicals in or on Various Commodities

AGENCY: Environmental Protection Agency (EPA).

ACTION: Notice.

SUMMARY: This notice announces the withdrawal of pesticide petitions (PP# 6E7075, 2E6478, 3E6592, 6E7140, 9E7548, 6F7136, 7F7242, 3F4188, 3H5662, and 7F7248) proposing the establishment or modification of tolerances for residues of pesticide chemicals in or on various commodities. The petitions were either withdrawn voluntarily by the petitioners or administratively by the Agency.

FOR FURTHER INFORMATION CONTACT: Laura Nollen, Registration Division (7505P), Environmental Protection Agency, 1200 Pennsylvania Ave., NW., Washington, DC 20460-0001; telephone number: (703) 305-7390; e-mail address: nollen.laura@epa.gov.

SUPPLEMENTARY INFORMATION:

I. General Information

A. Does this Action Apply to Me?

Although this action only applies to the petitioners in question, it is directed to the public in general. Since various individuals or entities may be interested, the Agency has not attempted to describe all the specific entities that may be interested in this action. If you have any questions regarding this action, please consult the person listed at the end of the withdrawal summary for the pesticide petition of interest.

B. How Can I Get Copies of this Document and Other Related Information?

EPA has established a docket for this action under docket identification (ID) number EPA-HQ-OPP-2010-0012. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Action is the Agency Taking?

Under section 408(d) of the Federal Food, Drug, and Cosmetic Act (FFDCA), 21 U.S.C. 346a, EPA is authorized to establish tolerances for pesticide residues in or on food based on a petition from any person. Ordinarily, EPA resolves these petitions either by granting or denying them. (21 U.S.C. 346a(d)(4)). EPA's regulations, however, allow petitions to be withdrawn by the petitioner without prejudice to refiling the petition at a later date (40 CFR 180.8). EPA has received notifications from various petitioners that several petitions, cited above, have been withdrawn, either partially or completely. By this action, EPA is providing the general public with notice that the petitions have been withdrawn by the petitioners. The petitioners may refile these petitions in the future without prejudice.

Pursuant to 40 CFR 180.7(f), a summary of each of the petitions covered by this notice, prepared by the petitioner, was included in a docket EPA created for each rulemaking. The docket for each of the petitions is available on-line at http://www.regulations.gov.

A. PP 2E6478 (Thiophanate-methyl)

EPA issued a notice in the Federal Register of April 12, 2006 (71 FR 18739) (FRL-7774-1) (EPA-HQ-OPP-2006-0283), which announced the submission of a pesticide petition (PP 2E6478) by the Interregional Research Project No. 4 (IR-4), 500 College Road East, Suite 201W, Princeton, NJ 08540. This petition requested that EPA amend 40 CFR 180.371 by establishing tolerances for residues of the fungicide thiophanate-methyl, (dimethyl [(1,2-phenylene)-bis(iminocarbonothioyl)] bis[carbamate]), its oxygen analogue, dimethyl-4,4-o-phenylene bis(allophonate), and its metabolite MBC in or on the food commodities corn, sweet, kernel plus cob with husk removed; corn, sweet, forage; and corn, sweet, stover at 0.05 parts per million (ppm). On December 26, 2009, IR-4 notified EPA that it was withdrawing this petition.

B. PP 6E7075 (Thiophanate-methyl)

EPA issued a notice in the Federal Register of November 8, 2006 (71 FR 65504) (FRL-8082-7) (EPA-HQ-OPP-2006-0644), which announced the submission of a pesticide petition (PP 6E7075) by IR-4, 500 College Road East, Suite 201W, Princeton, NJ 08540. This petition requested that EPA amend 40 CFR 180.371 by establishing tolerances for residues of the fungicide thiophanate-methyl, (dimethyl [(1,2-phenylene)-bis(iminocarbonothioyl)] bis[carbamate]), its oxygen analogue, dimethyl-4,4-o-phenylene bis(allophonate), and its benzimidazole-containing metabolites, in or on the food commodities bushberry subgroup 13B at 4.0 ppm; juneberry, lingonberry, and salal at 4.0 ppm; caneberry subgroup 13A at 25 ppm; Brassica, leafy greens, subgroup 5B at 7.0 ppm; turnip greens at 7.0 ppm; fruit, citrus, group 10 at 6.0 ppm; ginseng at 0.3 ppm; mushroom at 0.09 ppm; nut, tree, group 14 at 0.2 ppm; sunflower at 0.05 ppm; vegetable, tuberous and corm, subgroup 1C at 0.1 ppm; tomato and tomatillo at 1.4 ppm; and mustard (grown for seed) at 0.1 ppm. This petition also proposed to amend 40 CFR 180.371 by amending the existing tolerance for the raw agricultural commodities pistachio from 0.1 ppm to 0.9 ppm, and almond hulls from 1.0 ppm to 14.0 ppm. On December 26, 2009, IR-4 notified EPA that it was withdrawing this petition.

C. PP 3E6592 (Pyridalyl)

EPA issued a notice in the Federal Register of December 5, 2003 (68 FR 68044) (FRL-7334-6) (EPA-HQ-OPP-2003-0276), which announced the submission of a pesticide petition (PP 3E6592) by IR-4, 500 College Road East, Suite 201W, Princeton, NJ 08540. In this notice, PP 3E6592 was inadvertently referred to as PP 2E6592. This petition requested that EPA amend 40 CFR 180.640 by establishing tolerances for residues of the insecticide pyridalyl, (pyridine, 2-[3-[2,6-dichloro-4-[(3,3-dichloro-2-propenyl)oxy]phenoxy]propoxy]-5-(trifluoromethyl), in or on the food commodities Brassica, leafy greens, subgroup 5B at 30 ppm; and turnip greens at 30 ppm. On November 1, 2009, IR-4 notified EPA that it was withdrawing this petition.

D. PP 6E7140 (Deltamethrin)

EPA issued a notice in the Federal Register of February 7, 2007 (72 FR 5706) (FRL-8111-8) (EPA-HQ-OPP-2007-0004), which announced the submission of a pesticide petition (PP 6E7140) by IR-4, 500 College Road East, Suite 201W, Princeton, NJ 08540. This petition requested that EPA amend 40 CFR 180.435 by establishing tolerances for residues of the insecticide deltamethrin, ((1R,3R)-3-(2,2-dibromovinyl)-2,2-dimethylcyclopropanecarboxylic acid (S)-alpha-cyano-3-phenoxybenzyl ester), and its major metabolites, trans deltamethrin ((S)-alpha-cyano-m-phenoxybenzyl-(1R,3R)-3-(2,2-dibromovinyl)-2,2-dimethylcyclopropanecarboxylate) and alpha-R-deltamethrin ((R)-alpha-cyano-m-phenoxybenzyl-(1R,3R)-3-(2,2-dibromovinyl)-2,2- dimethylcyclopropanecarboxylate) in or on the food commodities flax, seed at 0.1 ppm; and flax, meal at 0.3 ppm. On November 17, 2009, IR-4 notified EPA that it was withdrawing this petition.

E. PP 9E7548 (Diazinon)

EPA issued a notice in the Federal Register of June 10, 2009 (74 FR 27538) (FRL-8417-7) (EPA-HQ-OPP-2009-0302), which announced the submission of a pesticide petition (PP 9E7548) by IR-4, 500 College Road East, Suite 201W, Princeton, NJ 08540. This petition requested that EPA amend 40 CFR 180.589 by establishing tolerances for residues of the insecticide diazinon, O,O-diethyl O-[6-methyl-2-(1-methylethyl)-4-pyrimidinyl]phosphorothioate (CAS No. 333-41-5), in or on the food commodity mushrooms at 0.75 ppm. On December 23, 2009, IR-4 notified EPA that it was withdrawing this petition.

F. PP 6F7136 (Oxamyl)

EPA issued a notice in the Federal Register of May 9, 2007 (72 FR 26372) (FRL-8121-5) (EPA-HQ-OPP-2007-0219), which announced the submission of a pesticide petition (PP 6F7136) by E.I. DuPont de Nemours and Company, DuPont Crop Protection, Laurel Run Plaza, P.O. Box 30, Newark, DE 19714-0030. This petition requested that EPA amend 40 CFR 180.303 by establishing tolerances for residues of the insecticide oxamyl, (methyl N′,N′-dimethyl-N-[(methylcarbamoyl)-oxy]-1-thiooxamimidate), in or on the food commodities beets, sugar, roots at 0.010 ppm; beets, sugar, tops at 0.20 ppm; and beets, sugar, molasses at 0.030 ppm. On December 14, 2009, E. I. DuPont de Nemours and Company notified EPA that it was withdrawing this petition.

G. PP 7F7242 (Oxamyl)

EPA issued a notice in the Federal Register of September 28, 2007 (72 FR 55204) (FRL-8147-1) (EPA-HQ-OPP-2007-0219),which announced the submission of a pesticide petition (PP 7F7242) by E.I. DuPont de Nemours and Company, DuPont Crop Protection, Laurel Run Plaza, P.O. Box 30, Newark, DE 19714-0030. This petition requested that EPA amend 40 CFR 180.303 by establishing tolerances for residues of the insecticide oxamyl, (methyl N′,N′-dimethyl-N-[(methylcarbamoyl)-oxy]-1-thiooxamimidate), and its oxime metabolite, methyl N,N-dimethyl-N-hydroxy-1-thiooxamimidate, calculated as oxamyl in or on the food commodities wheat forage, wheat hay, and wheat straw at 0.20 ppm. On December 14, 2009, E. I. DuPont de Nemours and Company notified EPA that it was withdrawing this petition.

H. PP 3F4188; 7F7248; 3H5662 (Chlorpyrifos)

EPA issued a notice in the Federal Register of April 16, 2008 (73 FR 20632) (FRL-8359-1) (EPA-HQ-OPP-2008-0173), which announced the submission of pesticide petitions (PP 3F4188, 7F7248, and 3H5662) by Dow Agro Sciences LLC, 9330 Zionsville Road, Indianapolis, IN 46268. These petitions requested that EPA amend 40 CFR 180.342 by establishing tolerances for residues of the insecticide chlorpyrifos, (O,O-diethyl-O-(3,5,6-trichloro-2-pyridyl) phosphorothioate), in or on the food commodities grass, forage (Crop group 17) at 11 ppm; grass, hay (Crop group 17) at 30 ppm; barley, grain at 0.5 ppm; barley, straw at 2 ppm; barley, hay at 3 ppm; and barley, milled feed fractions at 1 ppm. On February 13, 2009, Dow Agro Sciences LLC notified EPA that it was withdrawing these petitions.

III. Regulatory Assessment Requirements

This action provides notice that various tolerance petitioners have withdrawn, partially or completely, their petitions to establish tolerances. Under 40 CFR 180.8, petitioners are authorized to take such action. Because EPA is merely providing notice of actions of outside parties, the regulatory assessment requirements imposed on rulemaking do not apply to this action.

List of Subjects

Environmental protection, Agricultural commodities, Feed additives, Food additives, Pesticides and pests, Reporting and recordkeeping requirements.

Dated: April 1, 2010.
Lois Rossi,
Director, Registration Division, Office of Pesticide Programs.

[FR Doc. 2010-8292 Filed 4-13-10; 8:45 am]

BILLING CODE 6560-50-S